DEPARTMENT OF COMMERCE

United States Patent and Trademark Office

Submission for OMB Review; Comment Request

The United States Patent and Trademark Office (USPTO) will submit to the Office of Management and Budget (OMB) for clearance the following proposal for collection of information under the provisions of the Paperwork Reduction Act (44 U.S.C. chapter 35).

Agency: United States Patent and Trademark Office (USPTO).

Title: Substantive Submissions Made During the Prosecution of the Trademark Application.

Form Number(s): PTO-1553, 1981, 2194, 2195, 2200.

Agency Approval Number: 0651-0054.

Type of Request: Revision of a currently approved collection.

Burden: 48,471 hours annually.

Number of Respondents: 289,521 responses per year.

Avg. Hours per Response: The USPTO expects that it will take the public approximately 5 to 30 minutes (0.08 to 0.50 hours) to gather the necessary information, create the document, and submit the completed request, depending upon the type of request and the method of submission (electronic or paper).

Needs and Uses: This collection of information is required by the Trademark Act, 15 U.S.C. 1051 et seq., which provides for the Federal registration of trademarks, service marks, collective trademarks and servicemarks, collective membership marks, and certification marks. Individuals and businesses that use or intend to use such marks in commerce may file an application to register their marks with the USPTO. Such individuals and businesses may also submit various communications to the USPTO, including requests to amend their registrations to delete goods or services that are no longer being used by the registrant. The rules implementing the Trademark Act are set forth in 37 CFR part 2.

The forms in this collection are available in electronic format through the Trademark Electronic Application System (TEAS). The USPTO is proposing to add six new items into the inventory at this time to take into account a new method of electronic submission of information when a TEAS form having dedicated data fields is not yet available (i.e., TEAS Global forms). These TEAS Global forms can also be submitted in paper format. The USPTO is also proposing to delete the Other Petitions requirement and is introducing specific petitions in its place, namely in the TEAS Global format.

The information in this collection is a matter of public record and is used by the public for a variety of private business purposes related to establishing and enforcing trademark rights. The information is available at USPTO facilities and can also be accessed at the USPTO Web site.

Affected Public: Businesses or other for-profits.

Frequency: On occasion.

Respondent's Obligation: Required to obtain or retain benefits.

OMB Desk Officer: Nicholas A. Fraser, e-mail: Nicholas_A._Fraser@omb.eop.gov.

Once submitted, the request will be publicly available in electronic format through the Information Collection Review page at http://www.reginfo.gov.

Paper copies can be obtained by:

• E-mail: InformationCollection@uspto.gov. Include “0651-0054 copy request” in the subject line of the message.

• Mail: Susan K. Fawcett, Records Officer, Office of the Chief Information Officer, United States Patent and Trademark Office, P.O. Box 1450, Alexandria, VA 22313-1450.

Written comments and recommendations for the proposed information collection should be sent on or before August 25, 2011 to Nicholas A. Fraser, OMB Desk Officer, via e-mail to Nicholas_A._Fraser@omb.eop.gov, or by fax to 202-395-5167, marked to the attention of Nicholas A. Fraser.

Dated: July 21, 2011.
Susan K. Fawcett,
Records Officer, USPTO, Office of the Chief Information Officer.

[FR Doc. 2011-18812 Filed 7-25-11; 8:45 am]

BILLING CODE 3510-16-P